DEPARTMENT OF THE INTERIOR

National Park Service

Notice of Approval

SUMMARY: The Secretary of the Interior hereby announces approval of an application by the Governor of Ohio to include additional segments of the Big and Little Darby Creeks, Ohio, as state administered components of the National Wild and Scenic Rivers System.

FOR FURTHER INFORMATION CONTACT: Angie Tornes, Rivers, Trails and Conservation Assistance Program, National Park Service, Midwest Regional Office, 310 West Wisconsin Street, Suite 100E, Milwaukee, Wisconsin 53202; or telephone 414-297-3605.

SUPPLEMENTARY INFORMATION: Pursuant to the authority granted the Secretary of the Interior by section 2 of the Wild and Scenic Rivers Act (Public Law 90-542, as amended; 16 U.S.C. 1273, et seq.) and upon proper application of the Governor of the State of Ohio, an additional 3.4 miles of the Big and Little Darby Creeks are hereby designated and are added to the existing segments of the Big and Little Darby Creeks, a state-administered component of the National Wild and Scenic Rivers System.

On March 25, 1996, the Governor of Ohio petitioned the Secretary of the Interior to add an additional 3.4 miles to the 85.9 miles of the Big and Little Darby Creeks, designated as components of the National Wild and Scenic Rivers System March 10, 1996.

The evaluation report for that designation, prepared by the National Park Service in September 1993, states that the additional segments now under consideration were eligible and would be suitable for national wild and scenic river designation once they were added to the State Scenic River System. The evaluation also concluded that these segments of the Big and Little Darby Creeks meet the criteria for scenic classification under the Act.

These additional segments were added to the Ohio Scenic River System October 3, 1994. Public comment regarding national designation of the additional segments was solicited in Ohio and the required 90-day review for Federal Agencies was provided. Public and Federal Agency comments support national designation of the additional Big and Little Darby Creek segments. The State of Ohio has fulfilled the requirements of the Act by including these additional segments in the Ohio Scenic River System. The State's program to permanently protect the river is adequate. Current State and local management of the river is proceeding according to the Big and Little Darby Creek Plan and Environmental Assessment submitted with the original application.

As a result, the Secretary has determined that the additional 3.4 miles of the Big and Little Darby Creeks should be added to the existing designation of Big and Little Darby Creeks as a state-administered component of the National Wild and Scenic Rivers System, as provided for in section 2(a)(ii) of the Wild and Scenic Rivers Act.

Accordingly, the following additional river segments are classified as scenic pursuant to section 2(b) of the Act to be administered by State and local government:

Big Darby Creek: Scenic—From its confluence with Little Darby Creek (RM 34.1) upstream to the northern boundary of Battelle-Darby Creek Metro Park (RM 35.9) (1.8 miles).

Big Darby Creek: Scenic—From the U.S. Route 40 bridge (RM 38.9) upstream to the Conrail Railroad trestle crossing (RM 39.7) (0.8 miles).

Little Darby Creek: Scenic—From its confluence with Big Darby Creek (RM 0.0) to a point eight-tenths of a mile upstream (RM 0.8) (0.8 miles).

This action is taken following public involvement and consultation with the Departments of Agriculture, Army, Energy, and Transportation, the Federal Energy Regulatory Commission, and the U.S. Environmental Protection Agency as required by section 4(c) of the Wild and Scenic Rivers Act. All comments received have been supportive.

Notice is hereby given that effective upon this date, the above-described additional river segments are approved for inclusion in the National Wild and Scenic Rivers System to be administered by the State of Ohio.

Dated: November 9, 2000.
William W. Schenk,
Regional Director.

[FR Doc. 00-29669 Filed 11-20-00; 8:45 am]

BILLING CODE 4310-70-P